DEPARTMENT OF HEALTH AND HUMAN SERVICES

National Institutes of Health

Center for Scientific Review Amended Notice of Meeting

Notice is hereby given of a change in the meeting of the Molecular Neuropharmacology and Signaling Study Section, October 7, 2013, 8:00 a.m. to October 8, 2013, 12:00 p.m., The Dupont Hotel, 1500 New Hampshire Avenue NW., Washington, DC 20036 which was published in the Federal Register on September 10, 2013, 78 FR 175, Pgs. 55268-55270.

The meeting will start on November 19, 2013 at 8:00 a.m. and end on November 20, 2013 at 12:00 p.m. The location remains the same. The meeting is closed to the public.

Dated: October 25, 2013.
Anna Snouffer,
Deputy Director, Office of Federal Advisory Committee Policy.

[FR Doc. 2013-25883 Filed 10-30-13; 8:45 am]

BILLING CODE 4140-01-P